DEPARTMENT OF HEALTH AND HUMAN SERVICES

Administration for Children and Families

Award of a Single-Source Grant to the Commonwealth Election Commission of Saipan, Commonwealth of the Northern Mariana Islands (CNMI)

AGENCY: Administration on Developmental Disabilities, ACF, HHS.

ACTION: Notice.

CFDA Number: 93.631.

Statutory Authority: This award will be made pursuant to Section 161 of the Developmental Disabilities Assistance and Bill of Rights Act of 2000 (42 U.S.C. 15081-15083).

Amount of Award: $100,000.

Project Period: 9/30/2010-9/29/2011.

SUMMARY: This notice announces that the Administration for Children and Families (ACF), Administration on Developmental Disabilities (ADD) has awarded a single-source grant to the Commonwealth Election Commission of Saipan, Commonwealth of the Northern Mariana Islands (CNMI).

In 2002, Congress enacted the Help America Vote Act (HAVA) [(Pub. L. 107-252] as a means of improving the administration of elections for Federal office. CNMI did not participate in Federal elections prior to the enactment of the Consolidated Natural Resources Act of 2008 (Pub. L. 110-229). CNMI has now elected a non-voting Delegate to the U.S. House of Representatives.

With its participation in Federal elections, CNMI's eligibility for funding under HAVA is now established and, to that end, ADD is funding this award for a project designed to (1) Explore accessibility of polling places; (2) provide training and technical assistance to election officials, poll workers, and election volunteers on the best methods to promote the access and participation of individuals with developmental disabilities in elections for Federal office; and (3) train voters on how to use voting equipment to include various voting machines to allow for equal opportunity for access and participation in the voting process.

FOR FURTHER INFORMATION CONTACT: Ophelia McLain, Supervisory Program Specialist, Administration on Developmental Disabilities, 370 L'Enfant Promenade, SW., Mail Stop: HHH-405D, Washington, DC 20447. Telephone: 202-690-7025. E-mail: ophelia.mclain@acf.hhs.gov.

Dated: October 21, 2010.
Sharon Lewis,
Commissioner, Administration on Developmental Disabilities.

[FR Doc. 2010-27234 Filed 10-27-10; 8:45 am]

BILLING CODE P